NATIONAL ARCHIVES AND RECORDS ADMINISTRATION

[NARA-2023-018]

Freedom of Information Act (FOIA) Advisory Committee; Solicitation for Committee Member Nominations

AGENCY: Office of Government Information Services (OGIS), National Archives and Records Administration (NARA).

ACTION: Notice.

SUMMARY: The National Archives and Records Administration (NARA) is soliciting nominations to fill a vacancy on the Freedom of Information Act (FOIA) Advisory Committee. We are seeking a representative outside of government who has significant expertise in FOIA. The new member will serve the remainder of the term through June 30, 2024.

DATES: We must receive nominations for Committee membership no later than 5 p.m. EST on Monday, February 27.

ADDRESSES: Email nominations to OGIS at foia-advisory-committee@nara.gov. If you are unable to submit by email, please contact Kirsten Mitchell, Designated Federal Officer, at the contact information below.

FOR FURTHER INFORMATION CONTACT: Kirsten Mitchell by phone at 202.741.5775 or by email at foia-advisory-committee@nara.gov.

SUPPLEMENTARY INFORMATION:

I. Background

The National Archives and Records Administration (NARA) established the Freedom of Information Act (FOIA) Advisory Committee in accordance with the United States Second Open Government National Action Plan, released on December 5, 2013, and operates the Committee under the directive in FOIA, 5 U.S.C. 552(h)(2)(C), that the Office of Government Information Services (OGIS) within NARA “identify procedures and methods for improving compliance” with FOIA. The Committee is governed by the provisions of the Federal Advisory Committee Act, as amended, 5 U.S.C. App.

II. Charter and Membership Appointment Terms

NARA initially chartered the Committee on May 20, 2014. The Archivist of the United States renewed the Committee's charter for a fifth term on April 28, 2022, and in August 2022, the Acting Archivist of the United States appointed 20 members to serve for two (2) years, concurrent with the Committee charter. A non-Government representative member has resigned from the Committee, creating a vacancy.

III. Committee Membership

The 2022-2024 FOIA Advisory Committee consists of no more than 20 individuals who shall include a range of Government and non-Government representatives. Members are selected in accordance with the charter. Nominations for the vacant seat should be non-Governmental FOIA experts. For more information about the charter and Committee membership is available at https://www.archives.gov/ogis/foia-advisory-committee/2022-2024-term.

IV. Committee Members' Responsibilities

All Committee members are expected to attend the eight virtual or in-person public meetings remaining in the two-year Committee term that ends June 30, 2024. All Committee members are expected to volunteer for one or more of three working subcommittees that meet at various times during the two-year term. The remaining meetings of the 2022-2024 Committee term are scheduled for Thursday, March 2, 2023; Thursday, June 8, 2023; Thursday, September 7, 2023; Thursday, December 7, 2023; Tuesday, March 5, 2024; Thursday, April 4, 2024; Thursday, May 9, 2024, and Thursday, June 13, 2024.

V. Nomination Information

All nominations for the Committee vacancy must include the following information:

1. If you are self-nominating: Your name, title, relevant contact information (including telephone and email address); and your résumé or curriculum vitae.

2. If you are nominating another individual: The nominee's name, title, and relevant contact information; and their résumé or curriculum vitae.

3. For both self-nominations and nominations by other individuals: Your submission must include a statement (not to exceed one page) highlighting the contributions the nominee would make as a member of the Committee.

The Acting Archivist of the United States will review the nominations and make a final appointment. OGIS will notify in writing the nominee the Acting Archivist selects.

Tasha Ford,
Committee Management Officer.

[FR Doc. 2023-03401 Filed 2-16-23; 8:45 am]

BILLING CODE 7515-01-P